DEPARTMENT OF HOMELAND SECURITY

Coast Guard

[Docket Number USCG-2018-0193]

Polar Icebreaker Program; Preparation of Environmental Impact Statement

AGENCY: Coast Guard, DHS.

ACTION: Notice of intent to prepare an Environmental Impact Statement (EIS); notice of public meeting; and request for comments.

SUMMARY: The U.S. Coast Guard, as lead agency, is providing notice of their intent to prepare an environmental impact statement (EIS) in accordance with the National Environmental Policy Act (NEPA) for the Polar Icebreaker Program's design and build of up to six polar icebreakers (PIB). Notice is hereby given that the public scoping process has begun for the preparation of an EIS that will address the impacts and alternatives of the Proposed Action. The purpose of the scoping process is to solicit public comments regarding the range of issues, including potential environmental impacts and alternatives that should be addressed in the EIS. This notice also notifies the public that the U.S. Coast Guard intends to hold public meetings to discuss potential issues, concerns and reasonable alternatives that should be considered in the EIS. Following the scoping meetings and comment period, a Draft EIS will be prepared and ultimately circulated for public comment.

DATES: Comments and related material must be received by the U.S. Coast Guard on or before June 25, 2018. The public meetings will be held in May 2018 in Anchorage, Utqiaġvik (Barrow), Nome, and Kotzebue. The exact days and times of the public meetings will be announced through notice in the local papers (The Arctic Sounder, The Anchorage Daily News, and The Nome Nugget) and online at http://www.dcms.uscg.mil/Our-Organization/Assistant-Commandant-for-Acquisitions-CG-9/Programs/Surface-Programs/Polar-Icebreaker/.

ADDRESSES: You may submit comments identified by docket number USCG-2018-0193 using the Federal portal at http://www.regulations.gov. See the “Public Participation and Request for Comments” portion of the SUPPLEMENTARY INFORMATION section for further instructions on submitting comments. Written comments and related material may also be submitted to U.S. Coast Guard personnel specified at the public meetings.

FOR FURTHER INFORMATION CONTACT: If you have questions about this notice of intent, email Mr. Ahmed Majumder, Deputy Program Manager, Polar Icebreaker Program, U.S. Coast Guard; email PIBEnvironment@uscg.mil.

SUPPLEMENTARY INFORMATION:

I. Table of Abbreviations

CFR Code of Federal Regulations

CGC Coast Guard Cutter

EIS Environmental Impact Statement

FR Federal Register

NEPA National Environmental Policy Act

PIBs Polar Icebreakers

U.S.C. United States Code

II. Background and Purpose

The U.S. Coast Guard's current fleet of PIBs consists of two heavy icebreakers, Coast Guard Cutter (CGC) POLAR STAR and CGC POLAR SEA, and one medium icebreaker, CGC HEALY. The U.S. Coast Guard's heavy icebreakers have both exceeded their designed 30 year service life. CGC POLAR STAR was commissioned in 1976 and CGC POLAR SEA in 1978. CGC POLAR STAR began reactivation in 2010 and completed a service life extension in 2013 to allow CGC POLAR STAR to operate for an additional seven to ten years. CGC POLAR SEA has remained out of service since 2010 and is not expected to be reactivated. The current PIB program acquisition strategy is approved to construct up to three heavy PIBs and may (at a future date) potentially expand to include up to three medium icebreakers, with planned service design lives of 30 years each. The first of these new PIBs is expected to delivered in 2023. Because the first new PIB would not be operational in the Polar Regions until at least 2023, new information may become available after the completion of this EIS. In that case, supplemental NEPA documentation may, as appropriate, be prepared in support of individual proposed actions. Examples of new information may include, but are not limited to, changes to a species listing status or any other applicable laws and directives, and information regarding mission, training, homeporting, maintenance, and eventual decommissioning of the new PIBs.

A new PIB would be designed to carry out the U.S. Coast Guard's primary missions supported by the current polar icebreaker fleet. Expected missions include Ice Operations, Defense Readiness, Aids to Navigation, Living Marine Resources, Marine Safety, Marine Environmental Protection, Other Law Enforcement, Ports, Waterways, and Coastal Security, and Search and Rescue.

In executing its various missions, the U.S. Coast Guard protects the public, the environment, and U.S. economic and security interests in any maritime region, including international waters and the Nation's coasts, ports, and inland waterways, as required to support national security. Legislation and Executive orders assign the U.S. Coast Guard a wide range of responsibilities applicable to Polar regions. The U.S. Coast Guard derives its authority for the use of icebreaking from several statutes governing execution of its missions. These include 14 U.S.C. 81 (Coast Guard establishment, maintenance, and operation of aids to navigation), 14 U.S.C. 88 (Coast Guard saving of life and property), 14 U.S.C. 89 (Coast Guard law enforcement), 14 U.S.C. 90 (Arctic maritime transportation), 14 U.S.C. 91 (controlling anchorage and movement of vessels), 14 U.S.C. 94 (conduct oceanographic research), and 14 U.S.C. 141 (cooperation with agencies, States, territories, and others). In addition, Executive Order 7521 (Use of Vessels for Icebreaking in Channels and Harbors), 1 FR 2184, Dec. 24, 1936, directs the U.S. Coast Guard to assist in keeping channels and harbors open to navigation by means of icebreaking operations.

The U.S. Coast Guard proposes to conduct polar icebreaker operations and training exercises to meet Coast Guard mission responsibilities in the U.S. Arctic and Antarctic regions of operation, in addition to vessel performance testing post-dry dock in the Pacific Northwest near the probable polar icebreaker homeport of Seattle, Washington (the exact location for homeporting has not been determined, but the current fleet of polar icebreakers is homeported in Seattle, Washington).

Polar regions are becoming increasingly important to U.S. national interests. The changing environment in these regions could lead to a rise in human activity and increased commercial ship, cruise ship, and naval surface ship operations, as well as increased exploration for oil and other resources, particularly in the Arctic. One of the U.S. Coast Guard's highest priorities is safety of life at sea. This entails the artic responsibilities described above as well as assisting with McMurdo Station; Antarctica Logistics. Long term-projected increases in U.S. Coast Guard mission demand in the Polar Regions would require additional support from PIBs. A lack of infrastructure, polar environmental conditions, distance between operating areas and support bases, all influence the U.S. Coast Guard's ability to provide comparable service and presence provided in other non-polar areas of operation with existing Coast Guard assets.

Although the total number of new PIBs is subject to change, no more than six are proposed or anticipated, and therefore, the EIS will analyze the potential impacts of the range of up to six new PIBs, as this will be the highest number projected to be operational in the Polar Regions. Fewer than six new PIBs is also possible, but the analysis will cover impacts of fewer vessels and it is expected that fewer icebreakers will result in either similar impacts or some combination that should result in fewer impacts than what will be discussed and evaluated in the EIS. Potential environmental stressors include acoustic (underwater acoustic transmissions, vessel noise, icebreaking noise, aircraft noise, and gunnery noise), and physical (vessel movement, aircraft or in-air device movement, in-water device movement, icebreaking, and marine expended materials).

III. Scoping Process

The U.S. Coast Guard intends to follow the Council on Environmental Quality (CEQ) regulations implementing the NEPA (40 CFR 1500 et seq.) by scoping through public comment and public meetings. Scoping, which is integral to the process for implementing NEPA, provides a process to ensure that (1) issues are identified early and properly studied; (2) issues of little significance do not consume substantial time and effort; (3) the draft EIS is thorough and balanced; and (4) delays caused by an inadequate EIS are avoided.

Public scoping is a process for determining the scope of issues to be addressed in this EIS and for identifying the issues related to the proposed action that may have a significant effect on the project environment. The scoping process begins with publication of this notice and ends after the U.S. Coast Guard has:

Invited the participation of Federal, State, and local agencies, any affected Indian tribe, and other interested persons;

Consulted with affected Federally Recognized Tribes on a government-to-government basis, and with affected Alaska Native corporations, in accordance with Executive Order 13175 and other policies. Native concerns, including impacts on Indian trust assets and potential impacts to cultural resources, will be given appropriate consideration;

Requested the Environmental Protection Agency, the United States Fish and Wildlife Service, the National Marine Fisheries Service, and the United States Army Corps of Engineers to serve as cooperating agencies in the preparation of this EIS. With this Notice of Intent, we are asking Federal, State, and local agencies with jurisdiction or special expertise with respect to environmental issues in the project area, in addition to those we have already contacted, to formally cooperate with us in the preparation of this EIS;

Determined the scope and the issues to be analyzed in depth in the EIS;

Allocated responsibility for preparing the EIS components;

Indicated any related environmental assessments or environmental impact statements that are not part of this EIS;

Identified other relevant environmental review and consultation requirements, such as Coastal Zone Management Act consistency determinations, and threatened and endangered species and habitat impacts;

Indicated the relationship between timing of the environmental review and other aspects of the application process; and

Exercised our option under 40 CFR 1501.7(b) to hold the public scoping meeting announced in this notice.

Once the scoping process is complete, the U.S. Coast Guard will prepare a draft EIS, and will publish a Federal Register notice announcing its public availability. We will provide the public with an opportunity to review and comment on the draft EIS. Comments received during the draft EIS review period will be available in the public docket and made available in the final EIS. After the U.S. Coast Guard considers those comments, we will prepare the final EIS and similarly announce its availability and solicit public review and comment.

IV. Information Requested

We are seeking comments on the potential environmental impacts that may result from the development, building, testing, and operation of up to three heavy polar icebreakers and potentially three medium icebreakers to help in the development of an EIS. NEPA requires Federal agencies to consider environmental impacts that may result from a proposed action, to inform the public of potential impacts and alternatives, and to facilitate public involvement in the assessment process. An EIS would include, among other matters, discussions of the purpose and need for the proposed action, a description of alternatives, a description of the affected environment, and an evaluation of the environmental impacts of the proposed action and alternatives.

As required by the NEPA, the U.S. Coast Guard also will analyze the No Action Alternative as a baseline for comparing the impacts of the proposed action. For the purposes of this proposed action, the No Action Alternative is defined as not approving the design and build of new polar icebreakers. The U.S. Coast Guard encourages public participation in the EIS process. The scoping period will begin upon publication of this notice in the Federal Register and continue for a period of sixty (60) days. As part of the scoping process, and as authorized by 40 CFR 1508.22(b)(4), the U.S. Coast Guard will hold a public scoping meeting and informational open house in Anchorage, Utqiaġvik (Barrow), Nome, and Kotzebue, Alaska in May 2018. Public comments will be accepted at those meetings and can also be submitted to the docket, as previously described under ADDRESSES.

V. Public Participation and Request for Comments

Pursuant to the CEQ regulations, the U.S. Coast Guard invites public participation in the NEPA process. This notice requests public participation in the scoping process, establishes a public comment period, and provides information on how to participate.

We encourage you to submit comments through the Federal portal at http://www.regulations.gov. If your material cannot be submitted using http://www.regulations.gov, contact the person in the FOR FURTHER INFORMATION CONTACT section of this document for alternate instructions. In your submission, please include the docket number for this notice of intent and provide a reason for each suggestion or recommendation.

We accept anonymous comments. All comments received will be posted without change to http://www.regulations.gov and will include any personal information you have provided. For more about privacy and the docket, visit http://www.regulations.gov/privacyNotice.

Documents mentioned in this notice of intent as being available in the docket, and all public comments, will be in our online docket at http://www.regulations.gov and can be viewed by following that website's instructions.

We plan to hold public meetings in Anchorage, Utqiaġvik (Barrow), Nome, and Kotzebue to receive oral comments on this notice of intent. The dates, times, and locations of the public meetings will be announced in the local papers (The Arctic Sounder, The Anchorage Daily News, and The Nome Nugget) and online at http://www.dcms.uscg.mil/Our-Organization/Assistant-Commandant-for-Acquisitions-CG-9/Programs/Surface-Programs/Polar-Icebreaker/. If special assistance is required to attend the meetings, such as sign language interpretation or other reasonable accommodations, contact the U.S. Coast Guard as indicated in FOR FURTHER INFORMATION CONTACT.

Dated: April 23, 2018.
Ahmedur Majumder,
Deputy Program Manager, Polar Icebreaker Program, United States Coast Guard.

[FR Doc. 2018-08795 Filed 4-25-18; 8:45 am]

BILLING CODE 9110-04-P